DEPARTMENT OF VETERANS AFFAIRS

38 CFR Part 3

RIN 2900-AO31

Eligibility of Disabled Veterans and Members of the Armed Forces With Severe Burn Injuries for Financial Assistance in the Purchase of an Automobile or Other Conveyance and Adaptive Equipment; Correction

AGENCY: Department of Veterans Affairs.

ACTION: Proposed rule; correction.

SUMMARY: In a document published in the Federal Register on November 5, 2012 (77 FR 66419), the Department of Veterans Affairs amended its adjudication regulations regarding a certificate of eligibility for financial assistance in the purchase of an automobile or other conveyance and adaptive equipment. The document contained several grammatical errors in the preamble and regulatory text. This document corrects the errors and does not make any substantive change to the content of the proposed rule.

FOR FURTHER INFORMATION CONTACT: Nancy Copeland, Consultant, Regulations Staff (211D), Compensation Service, Veterans Benefits Administration, Department of Veterans Affairs, 810 Vermont Ave. NW., Washington, DC 20420, (202) 461-9487. (This is not a toll-free number.)

SUPPLEMENTARY INFORMATION: VA published a proposed rule on November 5, 2012, implementing section 803 of Public Law 111-275, the Veterans' Benefits Act of 2010, that amended subsection 3901(1)(A) of title 38, United States Code (U.S.C.), by reformatting the statute and adding “severe burn injury (as determined pursuant to regulations prescribed by the Secretary)” as one of the disabilities that VA will consider when making a determination of eligibility for financial assistance in the purchase of an automobile or other conveyance and adaptive equipment. Pursuant to the authority granted to the Secretary in 38 U.S.C. 501(a) and 3901(1)(A)(iv), VA proposes to amend 38 CFR 3.808 to define the term “severe burn injury.” In the proposed amendment to 38 CFR 3.808, we redesignated current paragraph (b)(4) as (b)(5) and added a new paragraph (b)(4) to define “severe burn injury,” as one of the conditions that determines entitlement for a certificate of eligibility for financial assistance in the purchase of an automobile or other conveyance and adaptive equipment. We found that newly proposed paragraph (b)(4) contained grammatical errors. This document corrects those grammatical errors.

List of Subjects in 38 CFR part 3

Administrative practice and procedure, Claims, Disability benefits, Health care, Pensions, Radioactive materials, Veterans, Vietnam.

Dated: November 19, 2012.
Robert C. McFetridge,
Director, Office of Regulation Policy and Management, Office of the General Counsel, Department of Veterans Affairs.

For the reasons set out in the preamble, VA proposes to correct 38 CFR part 3 as follows:

PART 3—ADJUDICATION

Subpart A—Pension, Compensation, and Dependency and Indemnity Compensation

1. The authority citation for part 3, subpart A continues to read as follows:

Authority: 38 U.S.C. 501(a), unless otherwise noted.

2. Revise § 3.808, paragraph (b)(4) to read as follows:

§ 3.808 Automobiles or other conveyances and adaptive equipment; certification.

* * * * *

(b) * * *

(4) Severe burn injury: Deep partial thickness or full thickness burns resulting in scar formation that cause contractures and limit motion of one or more extremities or the trunk and preclude effective operation of an automobile.

* * * * *

[FR Doc. 2012-28437 Filed 11-23-12; 8:45 am]

BILLING CODE 8320-01-P